DEPARTMENT OF TRANSPORTATION

Federal Aviation Administration

14 CFR Part 39

[Docket No. FAA-2017-1104; Product Identifier 2017-NM-153-AD; Amendment 39-19130; AD 2017-25-16]

RIN 2120-AA64

Airworthiness Directives; Airbus Airplanes

AGENCY: Federal Aviation Administration (FAA), DOT.

ACTION: Final rule; request for comments.

SUMMARY: We are adopting a new airworthiness directive (AD) for all Airbus Model A330-200, A330-200 Freighter, and A330-300 series airplanes; and Airbus Model A340-200, A340-300, A340-500, and A340-600 series airplanes. This AD requires repetitive inspections of certain fuel pumps for cavitation erosion, corrective action if necessary, and revision of the minimum equipment list (MEL). This AD was prompted by a report indicating that a fuel pump showing cavitation erosion breached the fuel pump housing and exposed the fuel pump power supply wires. We are issuing this AD to address the unsafe condition on these products.

DATES: This AD becomes effective December 29, 2017.

The Director of the Federal Register approved the incorporation by reference of a certain publication listed in this AD as of December 29, 2017.

We must receive comments on this AD by January 29, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact Airbus SAS, Airworthiness Office—EAL, 1 Rond Point Maurice Bellonte, 31707 Blagnac Cedex, France; telephone +33 5 61 93 36 96; fax +33 5 61 93 45 80; email airworthiness.A330-A340@airbus.com; internet http://www.airbus.com. You may view this referenced service information at the FAA, Transport Standards Branch, 1601 Lind Avenue SW, Renton, WA. For information on the availability of this material at the FAA, call 425-227-1221. It is also available on the internet at http://www.regulations.gov by searching for and locating Docket No. FAA-2017-1104.

Examining the AD Docket

You may examine the AD docket on the internet at http://www.regulations.gov by searching for and locating Docket No. FAA-2017-1104; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Section, Transport Standards Branch, FAA, 1601 Lind Avenue SW, Renton, WA 98057-3356; telephone 425-227-1138; fax 425-227-1149.

SUPPLEMENTARY INFORMATION:

Discussion

The European Aviation Safety Agency (EASA), which is the Technical Agent for the Member States of the European Union, has issued EASA Airworthiness Directive 2017-0224, dated November 10, 2017 (referred to after this as the Mandatory Continuing Airworthiness Information, or “the MCAI”), to correct an unsafe condition for all Airbus Model A330-200, A330-200 Freighter, and A330-300 series airplanes; and Airbus Model A340-200, A340-300, A340-500, and A340-600 series airplanes. The MCAI states:

An occurrence was reported of a fuel pump showing cavitation erosion which breached the fuel pump housing through the inlet webs and exposed the fuel pump power supply wires. Inspections accomplished on fuel pumps removed from other aeroplanes identified signs of erosion in varying degrees. However, no other instance of break-through due to cavitation erosion was found. A list of potentially affected fuel pump Part Numbers (P/N) was established.

This condition, if not detected and corrected, could result, in case the pump is running dry, in an ignition source in the fuel tank, which may result in a fuel tank explosion and consequent loss of the aeroplane.

To address this potential unsafe condition, Airbus issued Alert Operators Transmission (AOT) A28L006-17 to provide instructions to inspect some fuel pumps when installed at specific positions, and to update the applicable Master Minimum Equipment List (MMEL).

For the reasons described above, this [EASA] AD requires repetitive inspections of these fuel pumps and, depending on findings, replacement of damaged fuel pumps with serviceable parts. This [EASA] AD also requires an update of the applicable MMEL, and the reporting of inspection results to Airbus.

This [EASA] AD is considered to be an interim measure and further [EASA] AD action may follow.

Although the MCAI requires updating the “master minimum equipment list (MMEL),” this AD requires revising the “minimum equipment list (MEL).” The MMEL is a master list of the minimum equipment that the airplane can operate with under given circumstances. A MEL is derived from the MMEL and is tailored for individual operators. You may examine the MCAI on the internet at http://www.regulations.gov by searching for and locating Docket No. FAA-2017-1104.

Related Service Information Under 1 CFR Part 51

Airbus has issued Alert Operators Transmission A28L006-17, Rev. 00, dated November 3, 2017. The service information describes procedures for inspection of certain fuel pumps for cavitation erosion, and corrective actions. The service information also describes dispatch restrictions that affect the MEL. This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because the unsafe condition could result in an ignition source in the fuel tank, which could result in a fuel tank explosion. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2017-1104; Product Identifier 2017-NM-153-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 107 airplanes of U.S. registry. We estimate the following costs to comply with this AD:

Estimated Costs
Action | Labor cost | Parts cost | Cost per product | Cost on U.S. operators
Inspection | 4 work-hours × $85 per hour = $340 per inspection cycle | $0 | $340 per inspection cycle | $36,380 per inspection cycle.
Reporting | 1 work-hour × $85 per hour = $85 per inspection cycle | 0 | $85 per inspection cycle | $9,095 per inspection cycle.
MEL revision | 1 work-hour × $85 per hour = $85 | 0 | $85 | $9,095.

We estimate the following costs to do any necessary replacements that would be required based on the results of the inspection. We have no way of determining the number of aircraft that might need these replacements:

On-Condition Costs
Action | Labor cost | Parts cost | Cost per product
Replacement | 2 work-hours × $85 per hour = $170 | $8,000 | $8,170

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-25-16 Airbus: Amendment 39-19130; Docket No. FAA-2017-1104; Product Identifier 2017-NM-153-AD.

(a) Effective Date

This AD becomes effective December 29, 2017.

(b) Affected ADs

None.

(c) Applicability

This AD applies to the Airbus airplanes identified in paragraphs (c)(1) through (c)(7) of this AD, certificated in any category, all manufacturer serial numbers.

(1) Model A330-223F and -243F airplanes.

(2) Model A330-201, -202, -203, -223, and -243 airplanes.

(3) Model A330-301, -302, -303, -321, -322, -323, -341, -342, and -343 airplanes.

(4) Model A340-211, -212, and -213 airplanes.

(5) Model A340-311, -312, and -313 airplanes.

(6) Model A340-541 airplanes.

(7) Model A340-642 airplanes.

(d) Subject

Air Transport Association (ATA) of America Code 28, Fuel System.

(e) Reason

This AD was prompted by a report indicating that a fuel pump showing cavitation erosion breached the fuel pump housing and exposed the fuel pump power supply wires. We are issuing this AD to detect and correct cavitation erosion of certain fuel pumps, which could result, if the pump is running dry, in an ignition source in the fuel tank, and consequent fuel tank explosion.

(f) Compliance

Comply with this AD within the compliance times specified, unless already done.

(g) Definition of Affected Fuel Pump

(1) For the purpose of this AD, an affected fuel pump has part number (P/N) 568-1-28300-101, P/N 568-1-28300-103, or P/N 568-1-28300-200, and is located at one of the positions specified in paragraph 3.3 of Airbus Alert Operators Transmission (AOT) A28L006-17, Rev. 00, dated November 3, 2017.

(2) A fuel pump having P/N 568-1-28300-101, P/N 568-1-28300-103, or P/N 568-1-28300-200 that is installed in locations other than those specified in paragraph 3.3 of Airbus AOT A28L006-17, Rev. 00, dated November 3, 2017, is not affected by the inspection requirements of paragraph (i) of this AD.

(h) Airplane Group Designations

For the purpose of this AD, airplane groups are designated as specified in paragraphs (h)(1) and (h)(2) of this AD.

(1) Group 1 airplanes are equipped with an affected fuel pump.

(2) Group 2 airplanes are not equipped with an affected fuel pump.

(i) Inspections

For Group 1 airplanes: Before an affected pump exceeds 10,000 flight hours since first installation on an airplane, or the applicable time specified in paragraph (i)(1) or (i)(2) of this AD, whichever occurs later, inspect all affected fuel pumps for cavitation erosion, in accordance with the instruction of Airbus AOT A28L006-17, Rev. 00, dated November 3, 2017. Repeat the inspection thereafter at intervals not to exceed the applicable time specified in table 1 to paragraph (i) of this AD.

(1) For a center tank, rear center tank, or aft transfer fuel pump: Within 30 days after the effective date of this AD.

(2) For a stand-by fuel pump: Within 40 days after the effective date of this AD.

Table 1 to Paragraph (i) of This AD—Repetitive Inspection Intervals
Erosion—as defined in the AOT | Inspection interval in flight hours
No erosion | 5,000
Case 1: Light erosion | 5,000
Case 2: Medium erosion | 800

(j) Corrective Actions

If, during any inspection required by paragraph (i) of this AD, severe erosion (Case 3), as specified in Airbus AOT A28L006-17, Rev. 00, dated November 3, 2017, is found on a fuel pump: Before further flight, replace that fuel pump with a serviceable part, or deactivate that fuel pump as specified in the minimum equipment list (MEL), in accordance with the instructions of Airbus AOT A28L006-17, Rev. 00, dated November 3, 2017.

(k) Part Installation Limitations

(1) As of the effective date of this AD, a fuel pump having P/N 568-1-28300-101, P/N 568-1-28300-103, or P/N 568-1-28300-200 may be installed on an airplane, provided that the part is new, or, prior to installation, the part has passed the inspection (no erosion or Case 1: Light erosion) required by paragraph (i) of this AD and, following installation, the part is inspected within the applicable repetitive intervals and as required by paragraph (i) of this AD.

(2) As of the effective date of this AD, a fuel pump having P/N 568-1-28300-101, P/N 568-1-28300-103, or P/N 568-1-28300-200, with Case 2 (medium erosion), as specified in Airbus AOT A28L006-17, Rev. 00, dated November 3, 2017, may be installed on an airplane provided the fuel pump is not installed at a location specified in paragraph 3.3 of Airbus AOT A28L006-17, Rev. 00, dated November 3, 2017.

(l) MEL Revision

(1) Within 30 days after the effective date of this AD, revise the applicable MEL, in accordance with the instructions of Airbus AOT A28L006-17, Rev. 00, dated November 3, 2017, and thereafter operate the airplane accordingly.

(2) For Model A340-500 and A340-600 airplanes: In addition to the MEL revision required by paragraph (l)(1) of this AD, revise the applicable MEL to include the information specified in table 2 to paragraph (l)(2) of this AD, and thereafter operate the airplane accordingly.

Table 2 to Paragraph (l)(2) of This AD—Amendment to MEL Items 28-27-06 and 28-27-07
Applicability | MEL amendment
Model A340-500 and A340-600 series airplanes | MEL Items 28-27-06 and 28-27-07 can be applied, provided that the related circuit breaker is pulled and tagged for the duration of the MEL item.

(m) Reporting

At the applicable time specified in paragraph (m)(1) or (m)(2) of this AD: Report the results (including no findings) of each inspection required by paragraph (i) of this AD to inspection.results@airbus.com, in accordance with the instructions in Airbus AOT A28L006-17, Rev. 00, dated November 3, 2017.

(1) If the inspection was done on or before the effective date of this AD: Report within 10 days after the effective date of this AD.

(2) If the inspection was done after the effective date of this AD: Report within 10 days after the inspection.

(n) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (o)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(o) Related Information

(1) Refer to Mandatory Continuing Airworthiness Information (MCAI) EASA Airworthiness Directive 2017-0224, dated November 10, 2017, for related information. You may examine the MCAI on the internet at http://www.regulations.gov by searching for and locating Docket No. FAA-2017-1104.

(2) For more information about this AD, contact Vladimir Ulyanov, Aerospace Engineer, International Section, Transport Standards Branch, FAA, 1601 Lind Avenue SW, Renton, WA 98057-3356; telephone 425-227-1138; fax 425-227-1149.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A28L006-17, Rev. 00, dated November 3, 2017.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; internet http://www.airbus.com.

(4) You may view this service information at the FAA, Transport Standards Branch, 1601 Lind Avenue SW, Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 4, 2017.
Dionne Palermo,
Acting Director, System Oversight Division, Aircraft Certification Service.

[FR Doc. 2017-26842 Filed 12-13-17; 8:45 am]

BILLING CODE 4910-13-P